DEPARTMENT OF HOUSING AND URBAN DEVELOPMENT

[Docket No. FR-6101-N-02]

Notice of Regulatory Waiver Requests Granted for the Second Quarter of Calendar Year 2018

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2018 and ending on June 30, 2018.

FOR FURTHER INFORMATION CONTACT: For general information about this notice, contact Ariel Pereira, Associate General Counsel for Legislation and Regulations, Department of Housing and Urban Development, 451 7th Street SW, Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2018.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2018 through June 30, 2018. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2018) before the next report is published (the third quarter of calendar year 2018), HUD will include any additional waivers granted for the second quarter in the next report.

Accordingly, information about approved waiver requests pertaining to HUD regulations is provided in the Appendix that follows this notice.

Dated: September 25, 2018.
J. Paul Compton Jr.,
General Counsel.

Appendix

Listing of Waivers of Regulatory Requirements Granted by Offices of the Department of Housing and Urban Development April 1, 2018 Through June 30, 2018

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Fair Housing and Equal Opportunity

III. Regulatory Waivers Granted by the Office of Housing

IV. Regulatory Waivers Granted by the Office of Public and Indian Housing

I. Regulatory Waivers Granted by the Office of Community Planning and Development

For further information about the following regulatory waivers, please see the name of the contact person that immediately follows the description of the waiver granted.

• Regulation: 24 CFR 576.403(b).

Project/Activity: HUD granted a limited waiver of 24 CFR 576.403(b) to the Commonwealth of Puerto Rico for emergency shelters unable to meet ESG Program habitability standards for illumination and electricity due to the aftereffects of Hurricane Maria. The waiver of 24 CFR 576.403(b)(8) is provided for 120 days beginning on the date of the waiver memorandum (April 27, 2018) for shelters in areas that still lack power provided that: (1) Were electricity to be available to the shelter, the shelter would meet the minimum illumination and electricity standards in 24 CFR 576.403(b)(8); and (2) to the extent electricity is unavailable, adequate natural or artificial illumination (including battery-powered illumination) is available to support the occupants' health and safety. Further, shelters may be required to provide electricity to people with disabilities as a reasonable accommodation under Section 504 and the Americans with Disabilities Act (ADA). See 24 CFR 8.11; 28 CFR 35.130(b)(7)(i).

Nature of Requirement: If ESG funds are used for shelter operations costs, the shelter must meet the minimum safety, sanitation, and privacy standards under 24 CFR 576.403(b); and must comply with Section 504's accessibility requirements in 24 CFR part 8. If ESG funds are used to convert a building into a shelter, rehabilitate a shelter, or otherwise renovate a shelter, the shelter must meet the minimum safety, sanitation, and privacy standards in 24 CFR 576.403(b); accessibility requirements in Section 504 and Title II of the ADA; as well as applicable state or local government safety and sanitation standards. The habitability standards generally consist of basic health and safety standards.

Granted by: Neal Rackleff, Assistant Secretary for Community Planning and Development.

Date Granted: April 27, 2018.

Reason Waived: During the aftermath of Hurricane Maria, the Commonwealth's electrical infrastructure is still in need of major repairs to restore power to many areas. As a result, shelter facilities affected by the disaster may not be equipped to meet ESG Program habitability standards for illumination and electricity but can otherwise provide a safe alternative to unsheltered or otherwise unsafe housing situations.

Contact: Norm Suchar, Director, Office of Special Needs Assistance Programs, Office of Community Planning and Development, Department of Housing and Urban Development, 451 Seventh Street SW, Room 7262, Washington, DC 20410, telephone (202) 708-4300.

• Regulation: 24 CFR 576.403(c).

Project/Activity: HUD granted a limited waiver of 24 CFR 576.403(c) to the Commonwealth of Puerto Rico for housing unable to meet ESG Program habitability standards for illumination and electricity due to the aftereffects of Hurricane Maria. The waiver of 24 CFR 576.403(c)(7) is provided for 120 days beginning on the date of the waiver memorandum (April 27, 2018) for ESG-assisted housing in areas that still lack power provided that: (1) Were electricity to be available to the housing, the housing would meet the minimum illumination and electricity standards in 24 CFR 576.403(c)(7); and (2) to the extent electricity is unavailable, adequate natural or artificial illumination (including battery-powered illumination) is available to support the occupants' health and safety. Further, housing may be required to have electricity as a reasonable accommodation for individuals with disabilities under Section 504 and the Americans with Disabilities Act (ADA). See 24 CFR 8.11; 28 CFR 35.130(b)(7)(i).

Nature of Requirement: If ESG funds are used to help a program participant remain or move into housing, the housing must meet the minimum habitability standards provided in 24 CFR 576.403(c); and must comply with Section 504's accessibility requirements in 24 CFR part 8. The habitability standards generally consist of basic health and safety standards.

Granted by: Neal Rackleff, Assistant Secretary for Community Planning and Development.

Date Granted: April 27, 2018.

Reason Waived: The Commonwealth's electrical infrastructure is still in need of major repairs to restore power to many areas. As a result, housing units affected by the disaster may not be equipped to meet ESG Program habitability standards for illumination and electricity but can otherwise provide a safe alternative to unsheltered or otherwise unsafe housing situations.

Contact: Norm Suchar, Director, Office of Special Needs Assistance Programs, Office of Community Planning and Development, Department of Housing and Urban Development, 451 Seventh Street SW, Room 7262, Washington, DC 20410, telephone (202) 708-4300.

• Regulation: 24 CFR 576.106(e).

Project/Activity: HUD granted a waiver of 24 CFR 576.106(e) to the Massachusetts Department of Housing and Community Development (DHCD). The waiver is provided to allow DHCD's subrecipient, the South Middlesex Opportunity Council (SMOC), to provide ESG-funded rapid re-housing (RRH) rental assistance in housing owned by SMOC under the conditions that: (1) SMOC executes a rental assistance agreement with each tenant, which supports the costs charged to the grant and establishes the terms of the rental assistance (including subsidy amount and period of assistance); (2) the waiver will only be used to allow SMOC to provide ESG tenant based rental assistance to program participants who choose to live in units SMOC owns; (3) SMOC will have a different department conduct unit inspections and rent reasonableness determinations; and (4) DHCD will conduct closer, more frequent monitoring of SMOC, including unit site visits and paying particular attention to SMOC's rent reasonableness documentation and compatibility with the habitability standards in 24 CFR 576.403.

Nature of Requirement: Section 576.106(e) provides that the recipient or subrecipient may make rental assistance payments only to an owner with whom the recipient or subrecipient has entered into an agreement that sets forth the terms under which rental assistance will be provided. HUD implemented the rental assistance agreement requirement to ensure that a legal document establishes the type, amount, maximum time period, and other conditions of rental assistance to be paid with ESG funds. The rental assistance agreement requirement helps protect recipients and subrecipients by ensuring rental assistance payments are only made to owners who agree to be legally bound to the specific conditions imposed on those payments. But more importantly, the agreement protects the program participant by ensuring the subrecipient or recipient pays the subsidy on time and as specified in the agreement, and the owner applies those payments to the program participant's rent. Finally, the agreement provides a source document to support the costs charged to the grant and a record to show that rental assistance was administered in accordance with applicable requirements.

Granted by: Neal Rackleff, Assistant Secretary for Community Planning and Development.

Date Granted: May 10, 2018.

Reason Waived: According to DHCD, SMOC is the leading provider to low income and affordable housing in its area of operation. As a result, SMOC not only owns a significant number of rental housing available for ESG Program participants but also serves as the main provider of services in the region. Due to a critical lack of subrecipients in the area where SMOC-owned housing is located that could administer rental assistance in place of SMOC, the possibility of having two current ESG subrecipients administer rental assistance remotely, which would eliminate the need to waive the rental assistance agreement requirement, is too administratively burdensome for both DHCD and its subrecipients.

Contact: Norm Suchar, Director, Office of Special Needs Assistance Programs, Office of Community Planning and Development, Department of Housing and Urban Development, 451 Seventh Street SW, Room 7262, Washington, DC 20410, telephone (202) 708-4300.

II. Regulatory Waivers Granted by the Office of Fair Housing and Equal Opportunity

For further information about the following regulatory waivers, please see the name of the contact person that immediately follows the description of the waiver granted.

• Regulation: 24 CFR Sec 115.305.

Project/Activity: Fair Housing Assistance Program (FHAP), Washington, DC.

Nature of Requirement: FHEO is providing an Enforcement Fund under existing SEE fund authority set forth at 24 CFR Sec 115.305 for the purpose of providing financial assistance to FHAP agencies struggling with litigation costs. SEE funds are funds that HUD may provide to a FHAP agency to support enforcement activities of the FHAP agency's fair housing law. SEE funds are limited by regulation to 20 percent of an agency's total FHAP cooperative agreement for the previous contract year.

Granted by: Anne Maria Farías, Assistant Secretary for Fair Housing and Equal Opportunity.

Date Granted: May 4, 2018.

Reason Waived: Waiver of the 20 percent limitation on SEE funds for eligible FHAP agencies whose total cooperative agreement for fiscal year 2017 was less than $300,000. This allows more meaningful support for small and medium-sized agencies.

Contact: Joseph A. Pelletier, Director, Fair Housing Assistance Division, Office of Fair Housing and Equal Opportunity, Department of Housing and Urban Development, 451 Seventh Street SW, Room 5206, Washington, DC 20410, telephone (202) 402-2126.

III. Regulatory Waivers Granted by the Office of Housing—Federal Housing Administration (FHA)

For further information about the following regulatory waivers, please see the name of the contact person that immediately follows the description of the waiver granted.

• Regulation: 24 CFR 266.200(b)(2).

Project/Activity: Federal Financing Bank (FFB) Risk Sharing Program regulations for six (6) projects, Risk Sharing Initiative through Calendar Year 2019, Substantial Rehabilitation, District of Columbia Housing Finance Agency (DCHFA), Washington, DC, no project names listed.

Nature of Requirement: The Waiver of 24 CFR 266.200(b)(2), Substantial Rehabilitation. The Department will permit the revised definition of substantial rehabilitation (S/R) as described in the revised MAP Guide published on January 29, 2016, such that S/R is: Any scope of work that either: (a) Exceeds in aggregate cost a sum equal to the `base per dwelling unit limit' times the applicable High Cost Factor, or (b) Replacement of two or more building systems. `Replacement' is when the cost of replacement work exceeds 50 percent of the cost of replacing the entire system. The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted by: Brian D. Montgomery, Assistant Secretary for Housing-Federal Housing Commissioner, H.

Date Granted: June 21, 2018.

Reason Waived: Granted waivers of certain provisions of the Federal Financing Bank (FFB) Risk-Sharing Program regulations for six (6) projects utilizing the FFB Risk-Sharing Initiative through the end of Calendar Year 2019. Under this initiative, FFB provides capital to participating Housing Finance Agencies (HFAs) to make multifamily loans insured under the Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(b)(2).

Project/Activity: Federal Financing Bank (FFB) Risk-Sharing Program regulations for an additional 12 projects for a total of 29 projects utilizing the Federal Financing Bank (FFB) Risk-Sharing Initiative through the end of Calendar Year 2019, Substantial Rehabilitation, New Hampshire Housing Finance Authority (NHHFA), Bedford, New Hampshire, no project names listed.

Nature of Requirement: The Waiver of 24 CFR 266.200(b)(2), Substantial Rehabilitation. The Department will permit the revised definition of substantial rehabilitation (S/R) as described in the revised MAP Guide published on January 29, 2016, such that S/R is: Any scope of work that either: (a) Exceeds in aggregate cost a sum equal to the `base per dwelling unit limit' times the applicable High Cost Factor, or (b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted by: Brian D. Montgomery, Assistant Secretary for Housing-Federal Housing Commissioner.

Date Granted: June 13, 2018.

Reason Granted: Under this initiative, FFB provides capital to participating Housing Finance Agencies (HFAs) to make multifamily loans insured under the FHA Multifamily Risk Sharing Program. When NHHFA has received Firm approval letters for the total of 26 projects utilizing the FFB Risk Sharing Initiative, absent revisions to the Part 266 regulations, NHHFA will need to submit a subsequent written request for these four regulations to be waived for a set number of additional projects.

Contact: Patricia M. Burke, Acting Director, Office of Multifamily Production, Office of Housing, Department of Housing and Urban Development, 451 Seventh Street SW, Room 6130, Washington, DC 20410, telephone (202) 402-5693.

• Regulation: 24 CFR 266.200(b)(2).

Project/Activity: Federal Financing Bank (FFB) Risk Sharing Program regulations for forty (40), utilizing the FFB Risk Sharing Initiative, Substantial Rehabilitation, Wisconsin Housing and Economic Development Authority (WHEDA), Madison, Wisconsin, no project names listed.

Nature of Requirement: The Waiver of 24 CFR 266.200(b)(2), Substantial Rehabilitation. The Department will permit the revised definition of substantial rehabilitation (S/R) as described in the revised MAP Guide published on January 29, 2016, such that S/R is: Any scope of work that either: (a) Exceeds in aggregate cost a sum equal to the `base per dwelling unit limit' times the applicable High Cost Factor, or (b) Replacement of two or more building systems. `Replacement' is when the cost of replacement work exceeds 50 percent of the cost of replacing the entire system.

The High Cost Factors for 2018 were recently published through a Housing Notice (HN) on May 23, 2018 and the revised statutory limits were published in the Federal Register on November 7, 2017. The 2018 base dwelling unit amount to determine substantial rehabilitation for FHA insured loan programs has been increased from $15,000 (changed from $6,500 per unit in the 2016 MAP guide) to $15,636. This amount will change annually based upon the change in the annual Consumer Price Index (CPI), along with the statutory limits or other inflation cost index published by HUD.

Granted by: Brian D. Montgomery, Assistant Secretary for Housing-Federal Housing Commissioner.

Date Granted: June 21, 2018.

Reason Waived: Under this initiative, FFB provides capital to participating Housing Finance Agencies (HFAs) to make multifamily loans insured under the FHA Multifamily Risk-Sharing Program. When WHEDA has received Firm approval letters for 40 projects utilizing the FFB Risk Sharing Initiative, absent revisions to the Part 266 regulations, WHEDA will need to submit a subsequent written request for these four regulations to be waived for a set number of additional projects.

• Regulation: 24 CFR 266.200(c)(2).

Project/Activity: Federal Financing Bank (FFB) Risk Sharing Initiative, Equity Take Outs. District of Columbia Housing Finance Agency (DCHFA), Washington, DC.

Nature of Requirements: The Waiver of 24 CFR 266.200(c)(2), Existing Projects “Equity Take-outs”. The Department will permit the insured mortgage to exceed the sum of the total cost of acquisition, cost of financing, cost of repairs, and reasonable transaction costs, or “equity take-outs” in refinances of DCHFA-financed projects and those outside DCHFA's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time DCHFA determines that a project's excess funds (surplus cash) after project operations, reserve requirements and permitted distributions are met, DCHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted by: Brian D. Montgomery, Assistant Secretary for Housing-Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202)402-5693.

• Regulation: 24 CFR 266.200(c)(2).

Project/Activity: Federal Financing Bank (FFB) Risk Sharing Initiative, Equity Take Outs. Wisconsin Housing and Economic Development Authority (WHEDA), Madison, Wisconsin.

Nature of Requirement: The Waiver of 24 CFR 266.200(c)(2), Existing Projects “Equity Take-outs”. The Department will permit the insured mortgage to exceed the sum of the total cost of acquisition, cost of financing, cost of repairs, and reasonable transaction costs, or “equity take-outs” in refinances of WHEDA-financed projects and those outside WHEDA's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.); and

b. In accordance with regulations in 24 CFR 883.306(e), and Housing Notice 2012-14—Use of “New Regulation” Section 8 Housing Assistance Payments (HAP) Contracts Residual Receipts of Offset Project-Based Section 8 Housing Assistance Payments, if at any time WHEDA determines that a project's excess funds (surplus cash) after project operations, reserve requirements and permitted distributions are met, WHEDA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted by: Brian D. Montgomery, Assistant Secretary for Housing-Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(c)(2).

Project/Activity: Federal Financing Bank (FFB) Risk Sharing Initiative, Equity Take-Outs. New Hampshire Housing Finance Authority (NHHFA), Bedford, New Hampshire.

Nature of Requirement: The Waiver of 24 CFR 266.200(c)(2), Existing Projects “Equity Take-outs”. The Department will permit the insured mortgage to exceed the sum of the total cost of acquisition, cost of financing, cost of repairs, and reasonable transaction costs, or “equity take-outs” in refinances of NHHFA-financed projects and those outside NHHFA's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.), and

b. In accordance with regulations in 24 CFR 883.306(e), and Housing Notice 2012-14—Use of “New Regulation” Section 8 Housing Assistance Payments (HAP) Contracts Residual Receipts of Offset Project-Based Section 8 Housing Assistance Payments, if at any time NHHFA determines that a project's excess funds (surplus cash) after project operations, reserve requirements and permitted distributions are met, NHHFA must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted by: Brian D. Montgomery, Assistant Secretary for Housing—Federal Housing Commissioner.

Date Granted: June 13, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. District of Columbia Housing Finance Agency (DCHFA), Washington, DC.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit DCHFA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted by: Brian D. Montgomery, Assistant Secretary for Housing—Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street, SW, Room 6130, Washington, DC 20410, telephone (202) 402-5693.

• Regulation: 24 CFR 266.200(d).

Project/Activity: Federal Financing Bank (FFB) Risk Sharing Initiative, Underwriting of Projects with Section 8 HAP Contracts. Wisconsin Housing and Economic Development Authority, Madison, Wisconsin.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit WHEDA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted by: Brian D. Montgomery, Assistant Secretary for Housing—Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.200(d).

Project/Activity: Federal Financing Bank (FFB) Risk Sharing Initiative, Underwriting of Projects with Section 8 HAP Contracts. New Hampshire Housing Finance Authority, Bedford, New Hampshire.

Nature of Requirement: The Waivers of 24 CFR 266.200(d), Projects receiving Section 8 rental subsidies or other rental subsidies. For refinancing of Section 202 projects, and for Public Housing Authority (PHA) projects converting to Section 8 through the Rental Assistance Demonstration (RAD) Initiative, the Department will permit NHHFA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted by: Brian D. Montgomery, Assistant Secretary for Housing—Federal Housing Commissioner.

Date Granted: June 13, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.620(e).

Project/Activity: Federal Financing Bank (FFB) Risk Sharing Initiative, Termination of Mortgage Insurance. District of Columbia Housing Finance Agency, Washington, DC.

Nature of Requirement: The waiver of 24 CFR 266.620(e) Termination of Mortgage Insurance. As required by the Initiative, DCHFA agrees to indemnify HUD for all amount paid to FFB if “the HFA or its successors commit fraud or make a material misrepresentation to the Commissioner with respect to information culminating in the Contract of Insurance on the mortgage, or while the Contract of Insurance is in existence”.

Granted by: Brian D. Montgomery, Assistant Secretary for Housing—Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

Regulation: 24 CFR 266.410(e).

Project/Activity: California Housing Finance Agency (CalHFA), Sacramento, California, no project name or number.

Nature of Requirement: The 24 CFR 266.410(e), which requires mortgages insured under the 542(c) Housing Finance Agency Risk-Sharing Program to be fully amortized over the term of the mortgage. The waiver would permit CalHFA to use balloon loans that would amortize over a period of up to 35 years, but terms as short as 17 years for 40 transactions, including new construction/rehabilitation or acquisition/refinancing.

Granted by: Dana T. Wade, General Deputy Assistant Secretary for Housing.

Date Granted: May 22, 2018.

Reason Waived: The waiver was granted to allow CalHFA's clients additional financing options to their customers and to align CALHFA business practices with industry standards. CalHFA had previously been granted a waiver to provide Risk Share insured financing for balloon loans. This waiver is effective through December 31, 2019. The regulatory waiver is subject to the following conditions:

1. This waiver expires on December 31, 2019 and is limited to a total of forty transactions.

2. CalHFA must elect to take 50 percent or more of the risk of loss on all transactions.

3. Loans made under this waiver may have amortization periods of up to 35 years, but terms as short as 17 years.

4. All other requirements of 24 CFR 266.410 remain applicable. The waiver is applicable only to loans made under CalHFA's Risk Sharing Agreement.

5. In accordance with 24 CFR 266.200(d), the mortgage may not exceed an amount supportable by the lower of the Section 8 or comparable unassisted rents.

6. Projects must comply with Davis-Bacon labor standards in accordance with 24 CFR 266.225.

7. CalHFA must comply with regulations stated in 24 CFR 266.210 for insured advances or insurance upon completion transactions.

8. An Affordable Housing Deed restriction for at least 20 years must be recorded.

Contact: Patricia M. Burke, Acting Director, Office of Multifamily Production, Office of Housing, Department of Housing and Urban Development, 451 Seventh Street SW, Room 6130, Washington, DC 20410, telephone (202) 402-5693.

Regulation: 24 CFR 266.410(e).

Project/Activity: Colorado Housing Finance Agency (CHFA), Denver, Colorado, no project name or number.

Nature of Requirements: The 24 CFR 266.410(e), which requires mortgages insured under the 542(c) Housing Finance Agency Risk-Sharing Program to be fully amortized over the term of the mortgage. The waiver would permit CHFA to use balloon loans that would have a minimum term of 17 years and a maximum amortization period between 30-40 years for 9 transactions, including projects involving new construction/rehabilitation or acquisition/refinancing. This waiver would expire on July 31, 2019.

Granted by: Brian D. Montgomery, Assistant Secretary for Housing—Federal Housing Commissioner.

Date Granted: June 21, 2018.

Reason Waived: The waiver was granted to allow CHFA the ability to offer balloon loans which have become a standard product in the affordable housing industry. Borrowers can obtain better interest rates and a shorter term that works well for a typical new construction or substantial rehabilitation LIHTC deal, because these borrowers can pay off or restructure their loans soon after the 15-year LIHTC compliance period as defined by the IRS code. For these reasons, some of CHFA's borrowers are utilizing other balloon financing options from Fannie Mae or Freddie Mac rather than utilize Risk Share.

The regulatory waiver is subject to the following conditions:

1. This waiver expires on July 31, 2019, and is limited to a total of nine transactions.

2. CHFA must elect to take 50 percent or more of the risk of loss on all transactions.

3. Loans made under this waiver may have amortization periods of up to 40 years, but terms as short as 17 years.

4. All other requirements of 24 CFR 266.410 remain applicable. The waiver is applicable only to loans made under CHFA's Risk Sharing Agreement.

5. In accordance with 24 CFR 266.200(d), the mortgage may not exceed an amount supportable by the lower of the Section 8 or comparable unassisted rents.

6. Projects must comply with Davis-Bacon labor standards in accordance with 24 CFR 266.225.

7. CHFA must comply with regulations stated in 24 CFR 266.210 for insured advances or insurance upon completion transactions.

8. An Affordable Housing Deed restriction for at least 20 years must be recorded.

9. The loans exceeding $50 million require a separate waiver request.

Contact: Patricia M. Burke, Acting Director, Office of Multifamily Production, Office of Housing, Department of Housing and Urban Development, 451 Seventh Street SW, Room 6130, Washington, DC 20410, telephone (202) 402-5693.

• Regulation: 24 CFR 266.410(e).

Project/Activity: Maryland Department of Housing and Community Development (MDHCD), Lanham, Maryland, no project name or number.

Nature of Requirement: The 24 CFR 266.410(e) a waiver of 24 CFR 266.410(e), which requires mortgages insured under the 542(c) Housing Finance Agency Risk-Sharing Program to be fully amortized over the term of the mortgage. The waiver would permit MDHCD to use balloon loans that would have a minimum term of 17 years and a maximum amortization period of 40 years for 20 transactions, including projects involving new construction/rehabilitation or acquisition/refinancing.

Granted by: Brian D. Montgomery, Assistant Secretary for Housing—Federal Housing Commissioner.

Date Granted: June 21, 2018.

Reason Waived: The waiver was granted to allow MDHCD the ability to offer balloon loans to respond to the desire of borrowers for a financing option that reflects the contemporary cycle of capitalizations prevalent in the marketplace where projects, especially those involving the Low-Income Tax Credits, are refinanced every 15 years or so. More frequent recapitalizations allow the State's stock of multifamily properties to remain in excellent condition which is essential for maintaining the strength of Maryland communities, quality housing for residents and the economic performance of these assets. This waiver would expire on December 31, 2019.

The regulatory waiver is subject to the following conditions:

1. This waiver expires on December 31, 2019 and is limited to a total of twenty (20) transactions.

2. MDHCD must elect to take 50 percent or more of the risk of loss on all transactions.

3. Loans made under this waiver may have amortization periods of up to 40 years, but terms as short as 17 years.

4. All other requirements of 24 CFR 266.410 remain applicable. The waiver is applicable only to loans made under MDHCD's Risk Sharing Agreement.

5. In accordance with 24 CFR 266.200(d), the mortgage may not exceed an amount supportable by the lower of the Section 8 or comparable unassisted rents.

6. Projects must comply with Davis-Bacon labor standards in accordance with 24 CFR 266.225.

7. MDHCD must comply with regulations stated in 24 CFR 266.210 for insured advances or insurance upon completion transactions.

8. An Affordable Housing Deed restriction for at least 20 years must be recorded.

Contact: Patricia M. Burke, Acting Director, Office of Multifamily Production, Office of Housing, Department of Housing and Urban Development, 451 Seventh Street SW, Room 6130, Washington, DC 20410, telephone (202) 402-5693.

• Regulation: 24 CFR 266.410(e).

Project/Activity: Rhode Island Housing (RI Housing).

Nature of Requirement: The 24 CFR 266.410(e), which requires mortgages insured under the 542(c) Housing Finance Agency Risk Sharing Program to be fully amortized over the term of the mortgage. The waiver would permit RI Housing to use balloon loans (“Balloon Loans”) that would amortize over 35-40 years but mature within 17 to 25 years.

Granted by: Dana T. Wade, General Deputy Assistant Secretary for Housing.

Date Granted: April 12, 2018.

Reason Waived: The approval of this Waiver Extension Request will allow RI Housing to continue its competitiveness with other multifamily lenders for transactions that do not meet the requirements of the Federal Financing Bank Risk Share-Initiative Program. The transactions contemplated under this Waiver Extension Request will be preservation of projects, financed with tax-exempt bonds and 4 percent tax credits, and include a comprehensive rehabilitation plan. The approval of this Waiver Extension Request will allow RI Housing to sell its multifamily housing bonds for a shorter duration thereby lowering the bond yield resulting in lower interest rates for borrowers which helps to strengthen the financial and physical viability of these affordable housing transactions. This waiver approval is subject to the same conditions as the original November 23, 2016:

1. RI Housing must elect to take 50 percent or more of the risk of loss on all transactions.

2. The waiver is effective for a two-year period, retroactive to November 1, 2017, expiring on November 1, 2019.

3. All other requirements of 24 CFR 266.410 remain applicable.

4. In accordance with 24 CFR 266.200(d), the mortgage may not exceed an amount supportable by the lower of Section 8 or comparable unassisted market rents.

5. If applicable, projects must comply with Davis-Bacon labor standards in accordance with 24 CFR 266.225.

6. RI Housing must comply with regulations stated in 24 CFR 266.210 for insured advance or insurance upon completion transactions.

7. An Affordable Housing Deed restriction for 20 years must be recorded.

Contact: Patricia M. Burke, Acting Director, Office of Multifamily Production, Office of Housing, Department of Housing and Urban Development, 451 Seventh Street SW, Room 6130, Washington, DC 20410-8000, telephone (202) 402-5693.

• Regulation: 24 CFR 266.620(e).

Project/Activity: Federal Financing Bank (FFB) Risk Sharing Initiative, Termination of Mortgage Insurance. Wisconsin Housing and Economic Development Authority (WHEDA).

Nature of Requirement: The Waiver of 24 CFR 266.620(e) Termination of Mortgage Insurance. As required by the Initiative, WHEDA agrees to indemnify HUD for all amount paid to FFB if “the HFA or its successors commit fraud or make a material misrepresentation to the Commissioner with respect to information culminating in the Contract of Insurance on the mortgage, or while the Contract of Insurance is in existence”.

Granted by: Brian D. Montgomery, Assistant Secretary for Housing—Federal Housing Commissioner.

Date Granted: June 21, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.620(e).

Project/Activity: Federal Financing Bank (FFB) Risk-Sharing Initiative, Termination of Mortgage Insurance. New Hampshire Housing Finance Authority (NHHFA).

Nature of Requirement: The Waiver of 24 CFR 266.620(e) Termination of Mortgage Insurance. As required by the Initiative, NHHFA agrees to indemnify HUD for all amount paid to FFB if “the HFA or its successors commit fraud or make a material misrepresentation to the Commissioner with respect to information culminating in the Contract of Insurance on the mortgage, or while the Contract of Insurance is in existence”.

Granted by: Brian D. Montgomery, Assistant Secretary for Housing-Federal Housing Commissioner.

Date Granted: June 13, 2018.

Reason Waived: Under this Initiative, FFB provides capital to participating Housing Finance Agencies (HFAs) to make multifamily loans insured under the FHA Multifamily Risk Sharing Program.

Contact: Patricia M. Burke, Acting Director, Office of Multifamily Production, Office of Housing, Department of Housing and Urban Development, 451 Seventh Street SW, Room 6130, Washington, DC 20410, telephone (202) 402-5693.

• Regulation: 24 CFR 266.638(b) and (d).

Project/Activity: Villa Additions, FHA Project Number, 064-98017, City of Slidell, Louisiana.

Nature of Requirement: The 24 CFR 266.638(b)and (d) for debenture maturities, and interest rate accruals beyond the dates outlined in HUD's letter dated December 23, 2014 and March 30, 2016. The debenture maturity extensions, and continued waiver of interest accruals on these debentures for the remaining development, Villa Additions.

Granted by: Dana T. Wade, General Deputy Assistant Secretary for Housing.

Date Granted: April 12, 2018.

Reason Waived: This is an extension of a previously granted waiver for the debenture accruals, and the Katrina related claims were related to an extraordinary natural disaster Good cause has been shown that it is in the best interest of the public, and the Department to grant the waivers of 24 CFR 266.638(b) and (d) to extend debenture maturities and continue the suspension of interest accruals. The waiver approval is subject to Louisiana Housing Corporation (LHC) submission of amended debentures that reflect the extension date. This waiver extension date is effective through August 15, 2018.

Contact: Patricia M. Burke, Acting Director, Office of Multifamily Production, Office of Housing, Department of Housing and Urban Development, 451 Seventh Street SW, Room 6130, Washington, DC 20410, telephone (202) 402-5693.

• Regulation: 24 CFR 891.805.

Project/Activity: Sunset Retirement Home East, FHA Project Number 074-EE014; Sunset Retirement Home North, FHA Project Number 074-EE009; and Sunset Retirement Home South, FHA Project Number 074-SH007, Spencer, Iowa. Sunset Retirement Home, Incorporated (Owner) seeks approval to waive an organizational structure that would allow for each of the three projects to be owned by a single-member profit motivated limited liability company.

Nature of Requirement: The regulation at 24 CFR 891.805, which governs For-Profit Partnerships and Mixed-Finance Development for Supportive Housing for the Elderly or Persons with Disabilities, states that “Mixed-finance Owner, for the purpose of the mixed-finance development of housing under this part, means a single-asset, for-profit limited partnership of which a private nonprofit organization is the sole general partner.”

Granted by: Dana T. Wade, General Deputy Assistant Secretary for Housing.

Date Granted: May 14, 2018.

Reason Waived: The owner requested and was granted a waiver of the “single-asset entity” provision. A waiver allows the Department to permit a Section 202 Owner to be structured as a Limited Partnership, whose General Partner is a for-profit corporation who is wholly owned and controlled by a non-profit.

Contact: James Wyatt, Senior Account Executive, Office of Housing, Department of Housing and Urban Development, 451 Seventh Street SW, Room 6172, Washington, DC 20410, telephone (202) 402-2519.

IV. Regulatory Waivers Granted by the Office of Public and Indian Housing

For further information about the following regulatory waivers, please see the name of the contact person that immediately follows the description of the waiver granted.

• Regulation: 24 CFR 5.801(c) and 24 CFR 5.801(d)(1).

Project/Activity: Crawford County Housing Authority (KS161).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 3, 2018.

Reason Waived: The Crawford County Housing Authority (HA) requested to waive the reporting requirements for submitting its audited and unaudited financial information to extend the due date of its fiscal year end date of (FYE) June 30, 2017, to align with the FYE date of Southeast Kansas Community Action Program, Inc. (administering agency). The HA was directed to change the FYE date to December 31 for its HUD programs within the Public and Indian Housing Information Center (PIC). For next year and forward, the HAs electronic audited and unaudited submission date for inputting within the FASS on-line will be that of the administering agency of November 31st. This approved FASS extension only permits for filing FYE June 30, 2017, and the Department will not consider future waiver requests for this FYE timing differences.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of San German (RQ030).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 3, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Guayama (RQ017).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Sabana Grande (RQ048).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Salinas (RQ069).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Penuelas (RQ019).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Commonwealth of Puerto Rico, Municipality of Loiza (RQ027).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Fajardo (RQ036).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Isabela (RQ066).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Arroyo (RQ068).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 25, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Corozal (RQ023).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: April 30, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits for the extension for filing and is not applicable to the due date of Single Audit submissions to the Federal Audit Clearinghouse. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Aguadilla (RQ012).

Nature of Requirement: The regulation establishes certain reporting compliance dates. The audited financial statements are required to be submitted to the Real Estate Assessment Center (REAC) no later than nine months after the housing authority's (HA) fiscal year end (FYE), in accordance with the Single Audit Act and OMB Circular A-133.

Granted by: Dominique Blom, General Deputy Assistant Secretary for Public and Indian Housing.

Date Granted: May 2, 2018.

Reason Waived: The HA requested relief from compliance to extend the due date of its financial reporting requirements for the fiscal year end (FYE) of June 30, 2017. The HA is recovering from damages resulting from Hurricane Irma and is in Category C of the applicable Major Disaster Declaration for Hurricane Maria. The circumstances preventing the HA from submitting its FYE 2017 audited financial data by the due date was acceptable. Accordingly, the HA has until July 31, 2018, to submit its audited financial information to the Department. The approval of the Financial Assessment Subsystem (FASS) audited financial submission only permits for the extension for filing and is not applicable to the due date of Single Audit submissions to the Federal Audit Clearinghouse. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 982.161(a)(2).

Project/Activity: Salem Housing Authority in Salem, Oregon, requested a waiver of 24 CFR 982.161(a)(2) so that it could hire a person who presented a conflict of interest.

Nature of Requirement: The regulation 24 CFR 982.161(a)(2) states that neither the PHA nor any of its contractors, subcontractors or agency who formulate policy or who influence decisions with respect to the programs may enter into a contract or arrangement in connection with the voucher program.

Granted by: Dominique Blom, General Deputy Assistant Secretary for Public and Indian Housing.

Date Granted: May 16, 2018.

Reason Waived: This waiver was approved because HUD determined that based on the structured oversight of the contractor, the PHA eliminated the conflict of interest.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.305(c)(4).

Project/Activity: Washington County Department of Housing Services requested a waiver of 24 CFR 982.305(c)(4) to allow the PHA to execute a HAP contract after 60 days from the beginning of the lease term.

Nature of Requirement: The regulation at 24 CFR 982.305(c)(4) states that any HAP contract executed after the 60-day period is void and the PHA may not pay any housing assistance payments to the owner.

Granted by: Dominique Blom, General Deputy Assistant Secretary for Public and Indian Housing.

Date Granted: April 23, 2018.

Reason Waived: The waiver was approved to prevent the financial hardship of requiring low-income families pay the full amount of their rent at no fault of their own.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.401(f)(2)(i).

Project/Activity: The Bloomington HRA in Bloomington, Minnesota, requested a waiver of 24 CFR 982.401(f)(2)(i) to allow the agency to approve eight units that did not include a window in the bedroom.

Nature of Requirement: This regulation requires that there must be at least one window in the living room and in each sleeping room.

Granted by: Dominique Blom, General Deputy Assistant Secretary for Public and Indian Housing.

Date Granted: April 17, 2018.

Reason Waived: This waiver was approved to prevent the loss of affordable housing in an area with low vacancy rates. Additionally, the units meet all state and local housing codes including the International Building Code recently adopted by the City of Bloomington.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The Colorado Springs Housing Authority in Colorado Springs, Colorado, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: April 9, 2018.

Reason Waived: This waiver was approved to allow the agency additional administrative time to effectively implement SAFMRs in their jurisdiction.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The San Antonio Housing Authority in San Antonio, Texas, requested a waiver from HUD to delay the implementation of Small Area Fair Market Rents (SAFMR) from April 1, 2018, until July 1, 2018.

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: April 9, 2018.

Reason Waived: This MTW PHA is in the process of implementing alternative payment standards policies as authorized under their MTW agreement. The waiver was approved to avoid the unnecessary administrative burden and confusion of implementing the SAFMR based payment standards only a short time prior to the effective date of their alternative payment standard policies.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The Deerfield Beach Housing Authority in Deerfield Beach, Florida, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: April 19, 2018.

Reason Waived: This waiver was approved to allow the PHA additional time to coordinate its payment standards and landlord outreach strategies with other PHAs operating in the same metropolitan areas.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Housing Authority of the City of Fort Lauderdale in Fort Lauderdale, Florida, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: April 25, 2018.

Reason Waived: This waiver was approved to allow the PHA additional time to coordinate implementation of the SAFMRs with neighboring PHAs operating in the same metropolitan area.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Dania Beach Housing Authority in Dania Beach, Florida, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: April 26, 2018.

Reason Waived: This waiver was approved to allow the PHA additional time to coordinate implementation of the SAFMRs with neighboring PHAs operating in the same metropolitan area.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The Broward County Housing Authority in Lauderdale Lakes, Florida, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: May 1, 2018.

Reason Waived: This waiver was approved to allow the PHA additional time to coordinate implementation of the SAFMRs with neighboring PHAs operating in the same metropolitan area.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The Fairfax County Department of Housing and Community Development in Fairfax, Virginia, requested a waiver from HUD to delay the implementation of Small Area Fair Market Rents (SAFMR).

Nature of Requirement: The regulation 24 CFR 982.503(b)(i) requires a PHA to revise its payment standards within the basic range of the SAFMR within 3 months following the effective date of the publication of the FMRs.

Granted by: Dominique Blom, General Deputy Assistant Secretary for Public and Indian Housing.

Date Granted: May 2, 2018.

Reason Waived: This MTW PHA is in the process of implementing alternative payment standards policies as authorized under their MTW agreement. The waiver was approved to avoid the unnecessary administrative burden and confusion of implementing the SAFMR based payment standards only a short time prior to the effective date of their alternative payment standard policies.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Loudon County Department of Family Services in Leesburg, Virginia, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: May 7, 2018.

Reason Waived: This waiver was approved to allow the agency additional administrative time to effectively implement SAFMRs in their jurisdiction.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Manatee County Housing Authority, Bradenton, Florida, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: May 7, 2018.

Reason Waived: This waiver was approved to allow the agency additional administrative time to effectively implement SAFMRs in their jurisdiction.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Housing Authority of the City of Pittsburgh in Pittsburgh, Pennsylvania, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: May 7, 2018.

Reason Waived: This MTW PHA is in the process of implementing alternative payment standards policies as authorized under their MTW agreement. The waiver was approved to avoid the unnecessary administrative burden and confusion of implementing the SAFMR based payment standards only a short time prior to the effective date of their alternative payment standard policies.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Housing Authority of Bexar County in San Antonio Texas, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: June 11, 2018.

Reason Waived: This waiver was approved to allow for additional time to coordinate payment standard policies with the San Antonio Housing Authority which operates in the same metropolitan area. The agencies are working together to develop payment standards that will not result in significant numbers of portability moves between the agencies. Additionally, the agencies are coordinating training and resident outreach to minimize potential confusion for families and landlords.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: Monroe Housing Authority in Monroe, North Carolina, requested a waiver from HUD to delay the implementation of Small Area Fair Market Rents (SAFMR).

Nature of Requirement: The regulation 24 CFR 982.503(b)(1)(i) requires a PHA to revise its payment standards within the basic range of the SAFMR within 3 months following the effective date of the publication of the FMRs.

Granted by: Dominique Blom, General Deputy Assistant Secretary for Public and Indian Housing.

Date Granted: June 11, 2018.

Reason Waived: This waiver was approved to allow the agency additional time to work with the SAFMR technical assistance provider to establish payment standards. The agency was determined by HUD to have a shortfall in housing assistance payments in 2017 but has recently cured the lack of funds. To ensure they do not become a shortfall agency in 2018 because of the potential increases in payment standards as a result of SAFMRs, HUD approved the waiver request.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: The Marion County Housing Authority in Salem, Oregon requested a waiver of the regulation above because it was unable to submit its Section 8 Management Assessment Program (SEMAP) certification on time.

Nature of Requirement: The regulation, 24 CFR 985.101(a), requires that a SEMAP certification be submitted within 60 calendar days after the end of the PHA's fiscal year.

Granted by: Dominique Blom, General Deputy Assistant Secretary for Public and Indian Housing.

Date Granted: April 19, 2018.

Reason Waived: Due to circumstances beyond the PHA's control, they were unable to submit their SEMAP certification on time. This waiver was approved to avoid the unnecessary administrative and financial burden on both the PHA and the HUD field office to complete the work required of a troubled housing agency when the agency is not actually a troubled performer.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: The City of Baton Rouge Public Housing Agency in Baton Rouge, Louisiana, requested a waiver of the regulation above because it was unable to submit its Section 8 Management Assessment Program (SEMAP) certification on time.

Nature of Requirement: The regulation, 24 CFR 985.101(a), requires that a SEMAP certification be submitted within 60 calendar days after the end of the PHA's fiscal year.

Granted by: Dominique Blom, General Deputy Assistant Secretary for Public and Indian Housing.

Date Granted: June 21, 2018.

Reason Waived: Due to circumstances beyond the PHA's control, they were unable to submit their SEMAP certification on time. This waiver was approved to avoid the unnecessary administrative and financial burden on both the PHA and the HUD field office to complete the work required of a troubled housing agency when the agency is not actually a troubled performer.

Contact: Becky Primeaux, Housing Voucher Management and Operations Division, Office of Public Housing and Voucher Programs, Office of Public and Indian Housing, Department of Housing and Urban Development, 451 Seventh Street SW, Room 4216, Washington, DC 20410, telephone (202) 708-0477.

[FR Doc. 2018-21260 Filed 9-28-18; 8:45 am]

BILLING CODE 4210-67-P